DEPARTMENT OF JUSTICE

Antitrust Division

Notice Pursuant to the National Cooperative Research and Production Act of 1993—Digital Manufacturing Design Innovation Institute

Notice is hereby given that, on June 30, 2020, pursuant to Section 6(a) of the National Cooperative Research and Production Act of 1993, 15 U.S.C. 4301 et seq. (“the Act”), Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, Markforged, Watertown, MA; VLC Solutions, Schaumburg, IL; Arizona State University (ASU), Tempe, AZ; National Center for Defense Manufacturing and Machining, Blairsville, PA; Analatom, Santa Clara, CA; Freedman Seating, Chicago, IL; Logistics Management Institute (LMI), Tysons, VA; Cuesta Partners LLC, Chicago, IL; Dragos Inc., Hanover, MD; Olenick & Associates, Chicago, IL; Intel Corporation, Santa Clara, CA; General Tool Company, Cincinnati, OH; Quibit Networks, LLC, La Porte, IN; H2L Solutions, Huntsville, AL; Midwest Filtration, Cincinnati, OH; Rye Consulting, Chicago, IL; Purdue University, West Lafayette, IN; University of Michigan, Ann Arbor, MI; Sidechannel, Shrewsbury, MA; Gener8tor, Madison, WI; Drexel University, Philadelphia, PA; Elementary Robotics, Los Angeles, CA have been added as parties to this venture.

No other changes have been made in either the membership or planned activity of the group research project. Membership in this group research project remains open, and DMDII intends to file additional written notifications disclosing all changes in membership.

On January 5, 2016, DMDII filed its original notification pursuant to Section 6(a) of the Act. The Department of Justice published a notice in the Federal Register pursuant to Section 6(b) of the Act on March 9, 2016 (81 FR 12525).

The last notification was filed with the Department on April 1, 2020. A notice was published in the Federal Register pursuant to Section 6(b) of the Act on April 17, 2020 (85 FR 21461).

Suzanne Morris,
Chief, Premerger and Division Statistics, Antitrust Division.

[FR Doc. 2020-15386 Filed 7-15-20; 8:45 am]

BILLING CODE P